DEPARTMENT OF DEFENSE

Department of the Air Force

Air Force Institute of Technology (AFIT) Subcommittee of the Air University Board of Visitors; Notice of Meeting

The AFIT Subcommittee of the Air University Board of Visitors will hold an open meeting on March 25-27, 2001, with the first business session beginning at 8:30 a.m. in the Commandant's Conference Room, Building 125, Wright-Patterson Air Force Base, Ohio. (Five seats are available.)

The purpose of the meeting is to give the Board an opportunity to review Air Force Institute of Technology's educational programs and to present to the Commandant a report of their findings and recommendations concerning these programs.

For further information on this meeting, contact Ms. Beverly Houtz in the Directorate of Resources, Air Force Institute of Technology, (937) 255-5760.

Janet A. Long,
Air Force Federal Register Liaison Officer.

[FR Doc. 01-1394 Filed 1-17-01; 8:45 am]

BILLING CODE 5001-05-P